DEPARTMENT OF THE INTERIOR

Fish and Wildlife Service

[FWS-R6-ES-2013-N017; FXES11130600000-134-FF06E00000]

Endangered and Threatened Wildlife and Plants; Black-Footed Ferret Draft Recovery Plan

AGENCY: Fish and Wildlife Service, Interior.

ACTION: Notice of document availability for review and comment.

SUMMARY: The U.S. Fish and Wildlife Service (Service) announces the availability of a draft recovery plan for the black-footed ferret (Mustela nigripes). This species is federally listed as endangered under the Endangered Species Act of 1973, as amended (Act). The Service solicits review and comment from the public on this draft revised plan.

DATES: Comments on the draft revised recovery plan must be received on or before June 24, 2013.

ADDRESSES: Copies of the draft revised recovery plan are available by request from the National Black-Footed Ferret Conservation Center, U.S. Fish and Wildlife Service, P.O. Box 190, Wellington, CO 80549; telephone: 970-897-2730. Submit comments on the draft recovery plan to the Recovery Coordinator at this same address. An electronic copy of the draft recovery plan is available at http://www.fws.gov/endangered/species/recovery-plans.html.

FOR FURTHER INFORMATION CONTACT: Recovery Coordinator, at the above address, or telephone 970-897-2730.

SUPPLEMENTARY INFORMATION:

Background

Restoring an endangered or threatened animal or plant to the point where it is again a secure, self-sustaining member of its ecosystem is a primary goal of the Service's endangered species program. To help guide the recovery effort, the Service prepares recovery plans for the federally listed species native to the United States where a plan will promote the conservation of the species. Recovery plans describe site-specific actions necessary for the conservation of the species; establish objective, measurable criteria which, when met, would result in a determination that the species no longer needs the protection of the Act (16 U.S.C. 1531 et seq.); and provide estimates of the time and cost for implementing the needed recovery measures.

The Act requires recovery plans for listed species unless such a plan would not promote the conservation of a particular species. The original plan for the species was approved in 1978. The recovery plan was revised in 1988.

Section 4(f) of the Act requires that public notice and opportunity for public review and comment be provided during recovery plan development. The Service will consider all information received during a public comment period when preparing each new or revised recovery plan for approval. The Service and other Federal agencies also will take these comments into consideration in the course of implementing approved recovery plans. It is our policy to request peer review of recovery plans. We will summarize and respond to the issues raised by the public and peer reviewers in an appendix to the approved recovery plan.

The black-footed ferret (Mustela nigripes) was historically found throughout the Great Plains, mountain basins, and semi-arid grasslands of North America wherever prairie dogs occurred. The species was listed as endangered in 1967 (32 FR 4001; March 11, 1967) under the Endangered Species Preservation Act of 1966 and again in 1970 under the Endangered Species Conservation Act of 1969 (35 FR 8491; June 2, 1970). On January 4, 1974, the black-footed ferret was listed under the Endangered Species Act of 1973 (39 FR 1171). The ferret's close association with prairie dogs was an important factor in the ferret's decline. From the late 1800s to approximately the 1960s, prairie dog-occupied habitat and prairie dog numbers were dramatically reduced by the effects of both temporal and permanent habitat loss caused by conversion of native grasslands to cropland, and poisoning and disease. The ferret population declined precipitously as a result.

The recovery of the black-footed ferret will be achieved by establishing a number of ferret populations where appropriate habitat exists and by ameliorating threats impacting the species so as to allow the ferret's persistence. Although ferret habitat has been dramatically reduced from historical times, a sufficient amount remains, if its quality and configuration is appropriately managed. This management, for the most part, is likely to be conducted by State, Tribal, and Federal fish and wildlife and land management agencies. Additionally, private parties, including landowners and conservation organizations, are key for ferret recovery. Many partners contributing to ferret recovery in many places will help minimize the risk of loss of wild populations.

Specifically, recovery of black-footed ferrets will depend upon: (1) Continued efforts of captive breeding facilities to provide suitable animals for release into the wild; (2) conservation of prairie dog habitat adequate to sustain ferrets in several populations distributed throughout their historical range; and (3) management of sylvatic plague. The single, most feasible action that would benefit black-footed ferret recovery is to improve prairie dog conservation. If efforts are undertaken to more proactively manage existing prairie dog habitat for ferret recovery, all other threats to the species will be substantially less difficult to address. Downlisting of the black-footed ferret could be accomplished in approximately 10 years if conservation actions continue at existing reintroduction sites and if additional reintroduction sites are established. Delisting will be possible if more intensive reintroduction efforts are conducted of the black-footed ferret.

Request for Public Comments

The Service solicits public comments on the draft revised recovery plan. All comments received by the date specified in DATES will be considered prior to approval of the plan. Written comments and materials regarding the plan should be addressed to the Recovery Coordinator (see ADDRESSES section). Comments and materials we receive, as well as supporting documentation we used in preparing this draft revised recovery plan will be available, by appointment, for public inspection during normal business hours at the above address. If you submit a comment that includes personal identifying information, you may request at the top of your document that we withhold this information from public review. However, we cannot guarantee that we will be able to do so.

Authority

The authority for this action is section 4(f) of the Endangered Species Act, 16 U.S.C. 1533(f).

Dated: April 3, 2013.
Matt Hogan,
Acting Regional Director, Denver, Colorado.

[FR Doc. 2013-09494 Filed 4-22-13; 8:45 am]

BILLING CODE 4310-55-P